DEPARTMENT OF ENERGY

Federal Energy Regulatory Commission

[Project No. 4639-033]

Ampersand Christine Falls Hydro, LLC; Notice of Application Accepted for Filing and Soliciting Motions To Intervene and Protests

Take notice that the following hydroelectric application has been filed with the Commission and is available for public inspection.

a. Type of Application: Subsequent Minor License.

b. Project No.: 4639-033.

c. Date filed: September 29, 2021.

d. Applicant: Ampersand Christine Falls Hydro, LLC (Ampersand).

e. Name of Project: Christine Falls Hydroelectric Project (Christine Falls Project or project).

f. Location: On the Sacandaga River near the Village of Speculator, Hamilton County, New York. The project does not occupy any federal land.

g. Filed Pursuant to: Federal Power Act, 16 U.S.C. 791(a)-825(r).

h. Applicant Contact: Mr. Sayad Moudachirou, Licensing Manager, Ampersand Christine Falls Hydro LLC, 717 Atlantic Avenue, Suite 1A, Boston, MA 02111, Phone: 617-933-7206, Email: sayad@ampersandenergy.com; and Mr. Jason Huang, Asset Manager, Ampersand Christine Falls Hydro LLC, 717 Atlantic Avenue, Suite 1A, Boston, MA 02111, Phone: 773-919-0923, Email: jasonh@ampersandenergy.com.

i. FERC Contact: Andy Bernick at (202) 502-8660, or andrew.bernick@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Christine Falls Hydroelectric Project (P-4639-033).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis.

l. The Christine Falls Project consists of the following existing facilities: (1) a 15-foot-high, 152.6-foot-long concrete gravity dam (includes both abutments), with 3-foot-high wooden flashboards installed along the crest of the 135-foot-long spillway; (2) a reservoir with a surface area of 1.1 acres and a storage capacity of 4-acre feet at a normal water surface elevation of 1,699.7 feet National Geodetic Vertical Datum of 1929 (NGVD29); (3) an intake structure; (4) a 613-foot-long steel penstock with a diameter of 6 feet that bifurcates into 3-foot-diameter, 45-foot-long and 4-foot-diameter, 32-foot-long penstocks; (5) a brick and concrete powerhouse containing two turbine-generator units (i.e., one 275-kilowatt (kW) unit and one 575-kW unit) with a total capacity of 850 kW; (7) a tailrace with a depth of 21 feet; (8) a 610-foot-long bypassed reach; (9) a 185-foot-long underground transmission line connecting the generating units to a 1,000-kilovolt-ampere step-up transformer; (10) a 9,315-foot-long, 4.16/13.2-kilovolt underground transmission line from the transformer to a point of interconnection; and (11) appurtenant facilities.

The Christine Falls Project is operated in a run-of-river mode, with a minimum flow of 25 cubic feet per second (cfs) into the bypassed reach during the months of March, April, and May, and a minimum flow of 10 cfs during the remainder of the year. The project has an average annual generation of 2,478 megawatt-hours.

Ampersand proposes to operate the project in a strict run-of-river mode with an impoundment level fluctuation limit of 3 inches from the dam crest or flashboards when in place. As described in its October 11, 2022, settlement agreement with the U.S. Fish and Wildlife Service, New York State Department of Environmental Conservation, American Whitewater, and the New York State Council of Trout Unlimited, Ampersand proposes the following changes to project operation and facilities: (1) providing two seasonal minimum flow regimes over the spillway and through the bypass gate: (a) a 15 cubic feet per second (cfs) minimum flow or inflow, whichever is less, from June 1 to October 31, and (b) a 35 cfs minimum flow or inflow, whichever is less, from November 1 to May 31; (2) installing trash racks with 1-inch clear spacing or the equivalent (e.g., an overlay-type system) whereby approach velocities are less than or equal to 2 feet per second, as measured 1 foot in front of the trash racks; and (3) installing and maintaining a year-round downstream fish passage structure. Ampersand also proposes to remove the existing 9,315-foot-long transmission line from the project, stating that the line also provides power to the project from the grid and thus should not be considered a primary transmission line.

m. In addition to publishing the full text of this document in the Federal Register, the Commission provides all interested individuals an opportunity to view and/or print the contents of this document via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments | March 2023.
Scoping Document 1 comments due | April 2023.
Issue Scoping Document 2 (if necessary) | May 2023.
Issue Notice of Ready for Environmental Analysis | May 2023.

Dated: March 9, 2023.
Kimberly D. Bose,
Secretary.

[FR Doc. 2023-05289 Filed 3-14-23; 8:45 am]

BILLING CODE 6717-01-P